DEPARTMENT OF COMMERCE

National Oceanic and Atmospheric Administration

50 CFR Part 660

[Docket No. 230508-0124; RTID 0648-XD952]

Fisheries Off West Coast States; Modification of the West Coast Salmon Fisheries; Inseason Actions #32 Through #35

AGENCY: National Marine Fisheries Service (NMFS), National Oceanic and Atmospheric Administration (NOAA), Commerce.

ACTION: Inseason modification of 2023-2024 management measures.

SUMMARY: NMFS announces four inseason actions for the 2024 portion of the 2023-2024 ocean salmon fisheries. These inseason actions modify the recreational and commercial salmon fisheries in the area from the United States/Canada border to the United States/Mexico border.

DATES: The effective dates for these inseason actions are set out in this document under the heading “Inseason Actions” and the actions remain in effect until superseded or modified.

FOR FURTHER INFORMATION CONTACT: Shannon Penna, 562-980-4239, Shannon.Penna@noaa.gov.

SUPPLEMENTARY INFORMATION:

Background

The annual management measures for the 2023-2024 ocean salmon fisheries (88 FR 30235, May 11, 2023) govern the commercial and recreational fisheries in the area from the United States/Canada border to the United States/Mexico border, effective from 0001 hours Pacific Daylight Time (PDT), May 16, 2023, until the effective date of the 2024-2025 management measures, as published in the Federal Register. These measures include early season fisheries in March through mid-May of 2024 that may be adjusted through inseason action when abundance forecasts for 2024 salmon returns become available. NMFS is authorized to implement inseason management actions to modify fishing seasons, catch limits, and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (United States/Canada border to Cape Falcon, OR), and south of Cape Falcon (SOF) (Cape Falcon, OR, to the United States/Mexico border). The actions described in this document affect the SOF and NOF commercial and recreational fisheries, as set out under the heading Inseason Actions below.

Consultation with the Council Chairman on these inseason actions occurred on March 10, 2024, and April 23, 2024. These consultations included representatives from NMFS, Washington Department of Fish and Wildlife, Oregon Department of Fish and Wildlife, and California Department of Fish and Wildlife. Representatives from the Salmon Advisory Subpanel and Salmon Technical Team (STT) were also present. A Council representative was present on March 10, 2024, and April 23, 2024.

These inseason actions were announced on NMFS' telephone hotline and U.S. Coast Guard radio broadcast on the date of the consultations (50 CFR 660.411(a)(2)).

Inseason Actions

Reason and Authorization for Inseason Actions #32-#34

At its March 5-11, 2024, meeting, the STT presented updated stock abundance forecasts for salmon stocks managed under the Pacific Coast Salmon Fishery Management Plan (FMP). Based on the STT's report, SOF ocean salmon fisheries will be constrained in 2024 by the very low abundance forecasts for Klamath River fall-run Chinook (KRFC) salmon and Sacramento River fall-run Chinook (SRFC) salmon. KRFC salmon continue to meet the criteria for overfished, which was determined under the Magnuson-Stevens Fishery Conservation and Management Act (MSA) in 2018. In 2021, NMFS determined that SRFC had achieved rebuilt status (87 FR 25429) due to several years of higher escapements. However, the Sacramento River has been experiencing low flows and high temperatures in recent years associated with decades of frequent droughts; these conditions have adversely affected the stock. KRFC Chinook salmon expected abundance is low enough that the stock will be managed under the de minimus provisions of the harvest control rule in the FMP. In addition, the abundance of these stocks has been substantially over-forecast in recent years, and escapement have been much lower than anticipated preseason. To reduce the impacts on KRFC salmon and SRFC salmon given the low forecasts, NMFS took three inseason actions on March 11, 2024, concurrent with the March Council meeting to restrict some fisheries that were previously scheduled to open prior to May 16, 2023 (88 FR 30235, May 11, 2023).

The NMFS West Coast Regional Administrator (RA) considered the abundance forecasts for Chinook salmon stocks and the projected impacts in the ocean salmon fisheries, as modeled by the STT, and determined that the inseason actions described below are necessary to meet management and conservation goals set preseason. These inseason actions modify landing and possession limits, quotas and/or fishing seasons under 50 CFR 660.409(b)(1)(i).

Inseason Action #32

Description of the action: Inseason action #32 modifies the SOF commercial salmon troll fishery. In the area between Cape Falcon, OR, and Humbug Mountain, OR, the commercial salmon troll fishery, is closed from March 15, 2024, at 12:01 a.m. through April 16, 2024, at 11:59 p.m.

Effective dates: Inseason action #32 takes effect on March 15, 2024, at 12:01 a.m. and remains in effect until April 16, 2024, at 11:59 p.m.

Inseason Action #33

Description of the action: Inseason action #32 modifies the SOF commercial salmon troll fishery. In the area between Humbug Mountain and the Oregon/California border, the commercial salmon troll fishery is closed from March 15, 2024, at 12:01 a.m. through April 16, 2024, at 11:59 p.m.

Effective dates: Inseason action #33 takes effect on March 15, 2024, at 12:01 a.m. and remains in effect until April 16, 2024, at 11:59 p.m.

Inseason Action #34

Description of the action: Inseason action #34 modifies the ocean salmon recreational fishery and the ocean salmon troll commercial fishery from the Oregon/California border to the United States/Mexico border. These fisheries are closed through May 15, 2024 or until superseded.

Effective dates: Inseason action #34 takes effect for the following areas and dates, and remains in effect until superseded.

• Effective May 1, 2024, at 12:01 a.m. for the ocean salmon troll commercial fishery from the Oregon/California border to Humboldt South Jetty (California Klamath Management Zone).

• Effective April 16, 2024, at 12:01 a.m. for the ocean salmon troll commercial fishery from lat. 40°10′ N to Point Arena, CA (Fort Bragg management area).

• Effective May 1, 2024, at 12:01 a.m. for the ocean salmon troll commercial fishery from Point Arena, CA, to Pigeon Point, CA (San Francisco management area).

• Effective May 1, 2024, at 12:01 a.m. for the ocean salmon troll commercial fishery from Pigeon Point, CA, to the United States/Mexico border (Monterey management area).

• Effective May 1, 2024, at 12:01 a.m. for the ocean salmon recreational fishery from the Oregon/California border to latitude 40°10' N (California Klamath Management Zone).

• Effective April 6, 2024, at 12:01 a.m. for the ocean salmon recreational fishery from latitude 40°10′ N and Point Arena, CA (Fort Bragg management area).

• Effective April 6, 2024, at 12:01 a.m. for the ocean salmon recreational fishery from Point Arena, CA to Pigeon Point, CA (San Francisco Management Area),

• Effective April 6, 2024, at 12:01 a.m. for the ocean salmon recreation fishery from Pigeon Point, CA to the United States/Mexico border (Monterey Management Area),

Inseason Action #35

Reason and authorization for the action: The 2023-2024 annual management measures for ocean salmon fisheries (88 FR 30235, May 11, 2023) established a May-June commercial salmon fishery that included NOF subarea quotas that were based on information available at the time the 2023 management measures were adopted. The 2023 management measures allow for inseason action to adjust fisheries scheduled to occur from March 15, 2024, through May 15, 2024 (or until the effective date of the 2024 management measures), in response to new information on 2024 salmon stock abundance forecasts and northern salmon fisheries impacts, to keep fisheries impacts within management objectives and consistent with conservation needs. In addition to adjusted quotas, the Council adopted a weekly landing and possession limit based on the calendar week (Thursday-Wednesday). Under the 2023-2024 regulations, the fishery opens on May 1, 2024, with an 8-day calendar week (Wednesday-Wednesday). Inseason action adjusts the landing and possession limits for the week of May 1, 2024, through May 8, 2024. Beginning May 9, 2024, the fishery reverts to the Thursday-Wednesday landing week.

The RA considered the abundance forecasts for Chinook salmon stocks, the timing of the action relative to the length of the season, and determined that the inseason action described above is necessary to meet management and conservation goals set preseason. This inseason action modifies quotas and/or fishing seasons, and landing boundaries under 50 CFR 660.409(b)(1)(i) and (v).

Description of the action: Inseason action #35 modifies the ocean salmon troll commercial fishery from the United States/Canada border to Cape Falcon, OR.

Effective dates: Inseason action #35 takes effect for the following areas and dates, and remains in effect until superseded.

• Effective May 1, 2024, at 12:01 a.m., the quota for the May-June fishery is modified to 24,600 Chinook salmon, no more than 5,600 of which may be caught in the area between the United States/Canada border and the Queets River and no more than 5,710 of which may be caught in the area between Leadbetter Point and Cape Falcon.

• Effective May 1, 2024, at 12:01 a.m., the landing and possession limit for the entire area between Cape Falcon and the United States/Canada border is 150 Chinook salmon per vessel for the period May 1, 2024, through May 8, 2024, and 150 Chinook salmon per vessel per landing week (Thursday through Wednesday) beginning May 9, 2024, at 12:01 a.m.

• Effective May 1, 2024, at 12:01 a.m., the landing and possession limit in the area between the United States/Canada border and the Queets River is 60 Chinook salmon per vessel for the period May 1, 2024, through May 8, 2024, and 60 Chinook salmon per vessel per landing week (Thursday through Wednesday) beginning May 9, 2024, at 12:01 a.m.

• Effective May 1, 2024, at 12:01 a.m., the landing and possession limit in the area between the Queets River and Leadbetter Point is 150 Chinook salmon per vessel for the period May 1, 2024, through May 8, 2024, and 150 Chinook salmon per vessel per landing week (Thursday through Wednesday) beginning May 9, 2024, at 12:01 a.m.

• Effective May 1, 2024, at 12:01 a.m., the landing and possession limit in the area between Leadbetter Point and Cape Falcon is 60 Chinook salmon per vessel for the period May 1, 2024, through May 8, 2024, and 60 Chinook salmon per vessel per landing week (Thursday through Wednesday) beginning May 9, 2024, 12:01 a.m.

• Effective May 1, 2024, at 12:01 a.m., vessels fishing in a subarea north of Cape Falcon with a higher landing and possession limit may transit through and land in a subarea with a lower landing and possession limit, provided they meet reporting requirements when crossing the subarea boundary lines at Leadbetter Point or Queets River.

All other restrictions and regulations remain in effect as announced for the 2023-2024 ocean salmon fisheries (88 FR 30235, May 11, 2023; 88 FR 44737, July 13, 2023; 88 FR 51250, August 3, 2023; 88 FR 53813, August 9, 2023; 88 FR 58522, August 28, 2023; 88 FR 65824, September 26, 2023; 88 FR 77533, November 13, 2023) except as previously modified by inseason actions.

The states and Tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the MSA. These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (88 FR 30235, May 11, 2024), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: June 24, 2024.
Karen H. Abrams,
Acting Director, Office of Sustainable Fisheries, National Marine Fisheries Service.

[FR Doc. 2024-14113 Filed 6-26-24; 8:45 am]

BILLING CODE 3510-22-P